COMMODITY FUTURES TRADING COMMISSION

Sunshine Act Meetings

Agency Holding The Meeting: Commodity Futures Trading Commission.

Time And Date: 2 p.m., Wednesday March 19, 2008.

Place: 1155 21st St., NW., Washington, DC, 9th Floor Commission Conference Room.

Status: Closed.

Matters To Be Considered: Enforcement Matters.

FOR FURTHER INFORMATION CONTACT: Sauntia S. Warfield, 202-418-5084.

David A. Stawick,
Secretary of the Commission.

[FR Doc. 08-846 Filed 2-21-08; 11:53am]

BILLING CODE 6351-01-M